DEPARTMENT OF THE INTERIOR

Fish and Wildlife Service

[FWS-R1-R-2013-N034; 1265-0000-10137-S3]

Malheur National Wildlife Refuge, Harney County, OR; Record of Decision for Final Environmental Impact Statement

AGENCY: Fish and Wildlife Service, Interior.

ACTION: Notice of availability.

SUMMARY: We, the U.S. Fish and Wildlife Service (Service), announce the availability of the record of decision (ROD) for the final environmental impact statement (EIS) for the Malheur National Wildlife Refuge (Refuge). We completed a thorough analysis of the environmental, social, and economic considerations and presented it in our Final Comprehensive Conservation Plan (CCP) and EIS, which we released to the public on December 21, 2012.

DATES: The Regional Director, Pacific Region, U.S. Fish and Wildlife Service, signed the ROD on January 24, 2013.

ADDRESSES: You may view or download a copy of the CCP/ROD at http://www.fws.gov/pacific/planning, or request a copy of the CCP/ROD by any of the following methods:

Email: FW1PlanningComments@fws.gov. Include “Malheur NWR DCCP/EA” in the subject line.

Fax: Attn: Tim Bodeen, Project Leader, (541) 493-2405.

U.S. Mail: Tim Bodeen, Project Leader, Malheur National Wildlife Refuge, 36391 Sodhouse Lane, Princeton, OR 97221.

In-Person Viewing or Pickup: Call the Refuge at (541) 493-2612 to make an appointment to review or pick up a copy of the CCP/ROD during regular business hours.

Printed copies of the CCP/ROD are also available for review at Harney County Library, 80 West “D” St., Burns, OR 97720.

FOR FURTHER INFORMATION CONTACT: Tim Bodeen, Project Leader, Malheur National Wildlife Refuge, phone (541) 493-2612.

SUPPLEMENTARY INFORMATION:

Introduction

With this notice, we complete the CCP process for Malheur Refuge. We started this process through a Federal Register notice (74 FR 31046; June 29, 2009). We released the Draft CCP/EIS to the public, and requested comments on it in a notice of availability in the Federal Register (76 FR 55937, September 9, 2011). We also announced the availability of the final CCP/EIS in the Federal Register (77 FR 75644, December 21, 2012).

The Refuge was established on August 18, 1908, by President Theodore Roosevelt, as the Lake Malheur Bird Reservation; it was originally set aside to prevent plume hunters from decimating colonial nesting bird populations. The Refuge protected unclaimed lands encompassed by Malheur, Mud, and Harney Lakes “as a preserve and breeding ground for native birds.” The Refuge boundary was expanded in 1935 to include the Blitzen Valley, and again in 1941 to include the Double-O Unit. Refuge purposes include “a refuge and breeding ground for migratory birds and other wild life . . .” and “for use as an inviolate sanctuary, or for any other management purpose, for migratory birds.”

The Refuge consists of more than 187,000 acres of open water (marsh, river, and stream), wetlands, springs, riparian areas, irrigated meadows, grain fields, and shrub-steppe uplands. With its abundance of water in an otherwise arid landscape, the Refuge attracts a significant number of birds from the Pacific Flyway during spring migration. The Refuge is included in several flyway and regional bird conservation plans, and is designated an Important Bird Area by the National Audubon Society. However, populations of breeding waterfowl and waterbirds on Refuge lakes and wetlands have dropped substantially from historic levels. The decline is widely attributed to high populations of nonnative common carp in Harney Lake and adjacent water bodies.

We announce the availability of the Refuge's Final CCP/ROD in accordance with National Environmental Policy Act (NEPA) (40 CFR 1506.6(b)) requirements. We completed a thorough analysis of impacts on the human environment in the final CCP/EIS. The CCP will guide us in managing and administering the Refuge for the next 15 years. Alternative 2, as we described in the final CCP/ROD, is the foundation for the CCP. Implementing the CCP is subject to the availability of funding and any other compliance regulations.

Background

The CCP Process

The National Wildlife Refuge System Administration Act of 1966 (16 U.S.C. 668dd-668ee) (Refuge Administration Act), as amended by the National Wildlife Refuge System Improvement Act of 1997 (Improvement Act), requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction for conserving wildlife and habitats, CCPs identify wildlife-dependent recreational opportunities available to the public, including hunting, fishing, wildlife observation and photography, and environmental education and interpretation.

The Refuge engaged a diverse stakeholder base during the CCP process. Collectively, we are committed to ongoing collaboration throughout implementation of the CCP, integrating science and active adaptive management, and improving the health of the aquatic ecosystem. In collaboration with our stakeholders, we will review and update the CCP at least every 15 years in accordance with the Improvement Act.

CCP Alternatives and the Selected Alternative

In collaboration with our stakeholders, partners, and the public, we identified a number of issues in our draft CCP/EIS. We developed Refuge management alternatives to address the issues, and to achieve the Refuge's purposes, goals, and objectives; and support the NWRS mission. In our draft and final CCP/EIS documents, we fully analyzed three alternatives for the future management of the Refuge, they included Alternative 1 (current management), Alternative 2 (our preferred alternative), and Alternative 3. Alternative 1 satisfies the NEPA required “no action” alternative, and Alternative 2 was identified as the Service's preferred alternative. More details on the alternatives are available in the final CCP/EIS.

Selected Alternative

After considering the comments we received on the draft and final CCP/EIS documents, we selected Alternative 2, our preferred alternative, for implementation on the Refuge. Alternative 2 will result in the greatest amount of improvements to the Refuge's native habitat conditions, will best meet the Service's policies and directives, is compatible with Refuge purposes, and will achieve balance among the Refuge's management needs and programs.

Under Alternative 2, our management focus will be to improve the aquatic health of Refuge lakes and wetlands, primarily by controlling common carp populations. As turbidity caused by carp decreases, and vegetation and invertebrate species become more abundant, the productivity of Malheur Lake and other water bodies within the Refuge (e.g., Boca Lake and Warbler Pond) will improve for a variety of waterbirds, waterfowl, and shorebirds. With the aid of partners, a variety of tools will be used to reduce carp populations, including the application of pesticides, chemo-attractants, and chemo-repellants; and barrier placements, commercial harvest, angling, water manipulation, and other tools. We will also consider the need for continued amendments to and construction of additional in-stream traps, screens, and fish wheels that allow native fish to pass through the system, while impeding carp movement. We will also complete a riverine/wetland rehabilitation plan based on assessments of hydrologic, geomorphic, and biologic features; and pilot projects will be tested as resources become available.

Wetlands and terrestrial habitats will be managed for the life history needs of focal species identified in the CCP, with an emphasis on flexibility. Tools will include but not be limited to late summer haying and autumn/winter rakebunch grazing to meet the foraging needs of early-arriving wildlife species. During the Refuge's growing season, tools will include prescriptive grazing, mowing, farming, and extended dewatering to reduce invasive plants such as common cattail and reed canarygrass and rehabilitate plant communities to desired conditions.

Viewing overlooks, elevated viewing platforms, and photography blinds will be upgraded and developed. The Refuge will maintain and replant cottonwoods and other trees and shrubs at six historic sites for rare and incidental passerine birds enjoyed by birders. Trails will be added, and several trails will be upgraded or built to Architectural Barriers Act (ABA) standards. Docent-led Refuge tours will occur approximately monthly at various locations, and will include opportunities for guided kayak and canoe tours on Malheur Lake. A stronger emphasis will be placed on modern media for interpretation. The George Benson Memorial Museum will be enhanced, and outdoor interpretive panels added. Additional special events, public presentations, and EE opportunities will be provided. An EE shelter will be built at Refuge Headquarters.

Increased vehicle access will be provided. Visitors will be able to drive year-round to Krumbo Reservoir, along Boat Landing Road near Refuge Headquarters, and along the southern portion of East Canal Road to the Bridge Creek confluence. Outdoor welcome and orientation panels will be provided to guide visitors. Visitor amenities, such as picnic tables, shelters, and vault toilets will be upgraded or developed. An enlarged visitor contact station and gift shop will be built at Refuge Headquarters, and a seasonal contact station will be built at P Ranch.

The upland game hunt will open approximately three weeks earlier than it does currently. The northern part of Malheur Lake and the Buena Vista hunt unit will remain open under existing regulations. We will more than double the existing waterfowl hunt area, by opening the Buena Vista Unit and a portion of Malheur Lake to waterfowl hunting. Waterfowl hunting season in the new areas will extend from the fourth Saturday in October to the end of the State waterfowl hunting season. The existing youth hunt will be promoted, and access at Saddle Butte will improve. In partnership with potential users, the Refuge will support adding facilities in the Buena Vista hunt unit that are accessible to waterfowl hunters with mobility impairments.

To reduce our administration of unmarked lands within the Boundary hunt unit, we will pursue a land exchange with the Bureau of Land Management (BLM) to transfer unit lands located west of State Highway 205 and other small parcels to BLM. Hunting in the unit will likely continue unaffected by the potential land exchange.

Existing fishing opportunities at Krumbo Reservoir, along the upper Blitzen River, at the southern portion of East Canal, and at Mud and Bridge Creeks will continue, and vehicle access to fishing sites will increase. In addition, the Refuge will develop a pedestrian crossing at Bridge Creek, and open a late-summer bank fishing opportunity on the Blitzen River from Sodhouse Lane to the bridge on Boat Landing Road. Information will be available at fishing areas. At Krumbo Reservoir, triploid rainbow trout stocking will continue, and a redband trout genetic introgression study will be conducted.

We will improve cultural and paleontological resource programs by developing step-down management plans in cooperation with partners. Opportunities for American Indians to collect plants for traditional uses will expand. Monitoring and inventory of archaeological resources and interpretation of historic sites will increase.

We will pursue sustainable practices, energy independence, and carbon negative operations, and emphasize partnerships to maximize adaptive management. Our volunteer program will continue, with emphasis on increasing recruitment, retention, and return rates. Step-down inventory and monitoring plans will be developed, emphasizing focal species and national monitoring efforts. We will create a geodatabase to track data collected during inventory and monitoring efforts.

Dated: March 1, 2013.
Richard R. Hannan,
Acting Regional Director, Pacific Region, Portland, Oregon.

[FR Doc. 2013-16311 Filed 7-9-13; 8:45 am]

BILLING CODE 4310-55-P